DEPARTMENT OF JUSTICE

[OMB Number 1121-0292]

Agency Information Collection Activities; Proposed eCollection eComments Requested; Extension, With Change, of a Currently Approved Collection; Survey of Sexual Victimization

AGENCY: Bureau of Justice Statistics, Department of Justice.

ACTION: 60-Day notice.

SUMMARY: The Bureau of Justice Statistics, Department of Justice (DOJ), will be submitting the following information collection request to the Office of Management and Budget (OMB) for review and approval in accordance with the Paperwork Reduction Act of 1995.

DATES: Comments are encouraged and will be accepted for 60 days until April 12, 2024.

FOR FURTHER INFORMATION CONTACT: If you have additional comments especially on the estimated public burden or associated response time, suggestions, or need a copy of the proposed information collection instrument with instructions or additional information, please contact Emily Buehler, Bureau of Justice Statistics, 810 Seventh Street NW, Washington, DC 20531 (email: Emily.Buehler@usdoj.gov; telephone: 202-598-1036).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The SSV collects annual administrative data on allegations and substantiated incidents of sexual victimization from adult correctional and juvenile justice authorities. To meet the requirements of the Prison Rape Elimination Act of 2003 (PREA; Pub. L. 108-79), the survey will be administered to the Federal Bureau of Prisons and all state prison systems, all state juvenile justice systems, all facilities operated by the U.S. Military and U.S. Immigration and Customs Enforcement, all privately operated jails, and all juvenile facilities in Indian country. Representative samples of adult public jails, adult jails in Indian country, adult private prisons, and local and private juvenile justice facilities will also be included. These data are used to provide insight into the total number of allegations being reported to correctional authorities, the outcomes of investigations of allegations, and the characteristics of incidents, victims and perpetrators. Revisions to the collection include revised sampling designs, updated definitions of sexual victimization, and modifications to the survey forms to collect more information about victims and perpetrators of sexual victimization and to make survey forms more user-friendly.

Overview of This Information Collection

1. Type of Information Collection: Extension, with changes, of a currently approved collection.

2. The Title of the Form/Collection: Survey of Sexual Victimization (SSV).

3. The agency form number, if any, and the applicable component of the Department sponsoring the collection: Summary Forms: SSV-1, SSV-2, SSV-3, SSV-4, SSV-5, SSV-6. Incident Forms: SSV-IA, SSV-IJ. Bureau of Justice Statistics, Department of Justice.

4. Affected public who will be asked or required to respond, as well as the obligation to respond: Respondents will include the Federal Bureau of Prisons; state prison and juvenile justice systems; private prisons; correctional facilities operated by the U.S. Military and U.S. Immigration and Customs Enforcement; local, private and tribal jails; local and private juvenile justice facilities; and juvenile facilities in Indian country. The obligation to respond is required under the Prison Rape Elimination Act of 2003 (Pub. L. 108-79).

5. An estimate of the total number of respondents and the amount of time estimated for an average respondent to respond: It is estimated that 1,532 respondents will complete a summary form. System-level Summary Forms (SSV-1, SSV-2, SSV-5) are estimated to require approximately 1 hour to complete. Facility-level Summary Forms (SSV-3, SSV-4, SSV-6) are estimated to require approximately 30 minutes to complete. Incident Forms (SSV-IA and SSV-IJ) are estimated to take approximately 40 minutes to complete for each substantiated incident of sexual victimization.

6. An estimate of the total annual burden (in hours) associated with the collection: The total annual burden is estimated to be 3,047 hours.

7. An estimate of the total annual cost burden associated with the collection, if applicable: PREA requires facilities to track the data collected in SSV. No costs other than the cost of the hour burden exist for this data collection.

Form | Total annual responses | Estimated burden hours per response | Total estimated respondent burden (person hours)
SSV-1 | 1 | 1 | 1
SSV-2 | 50 | 1 | 50
SSV-3 | 700 | 0.5 | 350
SSV-4 | 198 | 0.5 | 99
SSV-5 | 51 | 1 | 51
SSV-6 | 492 | 0.5 | 246
SSV-IA | 2,500 | 0.75 | 1,875
SSV-IJ | 500 | 0.75 | 375
Total | 1,532 SSV1-6 forms and 3,000 IA/IJ forms |  | 3,047

If additional information is required contact: Darwin Arceo, Department Clearance Officer, United States Department of Justice, Justice Management Division, Policy and Planning Staff, Two Constitution Square, 145 N Street NE, 4W-218, Washington, DC.

Dated: February 6, 2024.
Darwin Arceo,
Department Clearance Officer for PRA, U.S. Department of Justice.

[FR Doc. 2024-02757 Filed 2-9-24; 8:45 am]

BILLING CODE 4410-18-P